DEPARTMENT OF STATE

22 CFR Part 171

[Public Notice: 9987]

RIN 1400-AE17

Privacy Act; STATE-01, Email Archive Management Records

AGENCY: Department of State.

ACTION: Proposed rule.

SUMMARY: In this proposed rulemaking, the Department of State proposes to exempt portions of the Email Archive Management Records, STATE-01, from certain provisions of the Privacy Act of 1974.

DATES: Comments must be received on or before April 5, 2019.

ADDRESSES: You may view this proposed rule and submit your comments by visiting the regulations.gov website at www.regulations.gov, and searching for docket number DOS-2018-0010.

FOR FURTHER INFORMATION CONTACT: John C. Sullivan, Senior Agency Official for Privacy; Office of Global Information Services, A/GIS; Department of State, SA-2; 515 22nd Street NW; Washington, DC 20522-8001, or at Privacy@state.gov or on (202) 261-8407. Please include “RIN 1400-AE17 State-01” in subject line of your email.

SUPPLEMENTARY INFORMATION:

The Department of State maintains the Email Archive Management Records system of records. The primary purpose of this system of records is to capture emails and attachments that interact with a Department of State email account and to store them in a secure repository that allows for search, retrieval, and view when necessary.

The Department of State intends to amend 22 CFR 171.26 to exempt portions of the Email Archive Management Records system of records from the Privacy Act. The Email Archive Management Records can include all email messages and attachments in a specific employee's inbox. Any exemptions that the Department has claimed in connection with other systems of records could apply to records in the Email Archive Management Records, because similar records could be included in or attached to emails that were sent or received by a Department employee.

Records in the Email Archive Management Records are exempted from all subsections of the Privacy Act, except for subsections (b), (c)(1) and (2), (e)(4)(A) through (F), (e)(6), (7), (9), (10), and (11), and (i), to the extent that those records meet the criteria of subsection (j)(2).

Records also may be exempt from subsections (c)(3); (d); (e)(1); (e)(4)(G), (H), and (I); and (f) of the Privacy Act pursuant to 5 U.S.C. 552a(k)(1), (k)(2), (k)(3), (k)(4), (k)(5), (k)(6), and (k)(7). STATE-01 is exempted under subsection (k)(1) to the extent that records are subject to the provisions of 5 U.S.C. 552(b)(1). STATE-01 is exempted under subsection (k)(2) to the extent that records are comprised of investigatory material compiled for law enforcement purposes, subject to the limitations set forth in subsection (k)(2). STATE-01 is exempted under subsection (k)(3) to the extent that records are related to providing protective services pursuant to 18 U.S.C. 3056. STATE-01 is exempted under subsection (k)(4) to the extent that records are required by statute to be maintained and are used solely as statistical records. STATE-01 is exempted under subsection (k)(5) to the extent that records consist of investigatory material compiled solely for the purpose of determining suitability, eligibility, or qualifications for federal civilian employment, military service, federal contracts, or access to classified information, but only to the extent that disclosure of such material would reveal the identity of a confidential informant. STATE-01 is exempted under subsection (k)(6) to the extent that records consist of testing or examination material used solely to determine individual qualifications for appointment or promotion in the federal service, the disclosure of which would compromise the objectivity or fairness of the testing or examination process. STATE-01 is exempted under subsection (k)(7) to the extent that records consist of evaluation material used to determine potential for promotion in the armed services, but only to the extent that such disclosure would reveal the identity of a confidential informant.

List of Subjects in 22 CFR Part 171

Administrative practice and procedure; Freedom of information; Privacy.

For the reasons stated in the preamble, 22 CFR part 171 is proposed to be amended as follows:

PART 171—[AMENDED]

1. The authority for part 171 continues to read as follows:

Authority: 22 U.S.C. 2651a; 5 U.S.C. 552, 552a; E.O. 12600 (52 FR 23781); Pub. L. 95-521, 92 Stat. 1824 (codified as amended at 5 U.S.C. app. 101-505); 5 CFR part 2634.

2. Section 171.26 is amended by:

a. Adding an entry, in alphabetical order, for “Email Archive Management Records, STATE-01” to the list in paragraph (a)(2)(iii); and

b. Adding an entry, in alphabetical order, for “Email Archive Management Records, STATE-01” to the lists in paragraphs (b)(1) through (7).

Dated: December 21, 2018.
John C. Sullivan,
Senior Agency Official for Privacy, Deputy Assistant Secretary, Office of Global Information Services, Bureau of Administration, Department of State.

[FR Doc. 2019-00893 Filed 2-1-19; 8:45 am]

BILLING CODE 4710-24-P